DEPARTMENT OF THE INTERIOR

Bureau of Ocean Energy Management

[Docket No. BOEM-2017-0008]

Draft Supplemental Environmental Impact Statement for the Cape Wind Energy Project MMAA104000

AGENCY: Bureau of Ocean Energy Management, Interior.

ACTION: Notice of availability of a Draft Supplemental Environmental Impact Statement.

SUMMARY: The Bureau of Ocean Energy Management (BOEM) is announcing the availability of a Draft Supplemental Environmental Impact Statement (Draft SEIS) for the Cape Wind Energy Project. This supplement to the 2009 Final EIS has been prepared in response to a 2016 remand order of the U.S. Court of Appeals for the District of Columbia in Public Employees for Environmental Responsibility v. Hopper, 827 F.3d 1077 (D.C. Cir. 2016). This notice serves to announce the beginning of the public comment period on the Draft SEIS.

DATES: Comments must be submitted or postmarked no later than May 15, 2017.

FOR FURTHER INFORMATION CONTACT: Michelle Morin, BOEM Office of Renewable Energy Programs, 45600 Woodland Road, Sterling, Virginia 20166, (703) 787-1722 or michelle.morin@boem.gov.

SUPPLEMENTARY INFORMATION:

1. Proposed Action and Alternative

On July 5, 2016, the U.S. Court of Appeals for the District of Columbia Circuit vacated the 2009 Cape Wind Energy Project Final EIS and ordered that BOEM: “supplement [the EIS] with adequate geological surveys before Cape Wind may begin construction.” Public Employees for Environmental Responsibility v. Hopper, 827 F.3d 1077, 1084 (D.C. Cir. 2016). The Court opined that: “[w]ithout adequate geological surveys, the [BOEM] cannot `ensure that the seafloor [will be] able to support' wind turbines.” Id. at 1083. While the Court found that: “[BOEM] therefore had violated NEPA (National Environmental Policy Act)” the Court noted that “. . . [it] does not necessarily mean that the project must be halted or that Cape Wind must redo the regulatory approval process.” Id. at 1083-4. The Court explicitly left undisturbed BOEM's 2010 decision to issue the lease and BOEM's 2011 decision to approve the Construction and Operations Plan (COP). Id. at 1084. In light of the remand order and the remaining valid lease and COP, only two alternatives remain relevant to the court's remand: The Proposed Action (affirming BOEM's issuance of the existing lease), and the No Action Alternative (requiring BOEM to rescind lease issuance). In its Draft SEIS, BOEM examines the available geological survey data, including the geotechnical data and reports submitted to BOEM since the 2009 Final EIS, and any other relevant data that relates to the adequacy of the seafloor to support wind turbines in the lease area.

2. Public Comments

BOEM will not hold public hearings during the public review period on the Draft SEIS (see 40 CFR 1506.6(c)). The Draft SEIS is available for review on the BOEM Web site at: https://www.boem.gov/Renewable-Energy-Program/Studies/Cape-Wind.aspx. To obtain a single printed copy of the Draft SEIS, you may contact the Office of Renewable Energy Programs, 45600 Woodland Rd, Sterling, VA 20166. The list of Massachusetts libraries provided a copy of the Draft SEIS can be found at: https://www.boem.gov/Renewable-Energy-Program/Studies/Cape-Wind.aspx. Federal, state, tribal, and local governments and/or agencies and other interested parties may submit written comments on this Draft SEIS through the following methods:

1. Federal eRulemaking Portal: http://www.regulations.gov. In the field entitled “Enter Keyword or ID,” enter BOEM-2017-0008, and then click “search.” Follow the instructions to submit public comments and view supporting and related materials available for this notice;

2. In written form, delivered by hand or by mail, enclosed in an envelope labeled “Cape Wind Energy Project Draft SEIS” and addressed to Program Manager, Office of Renewable Energy, Bureau of Ocean Energy Management, 45600 Woodland Road, Sterling, Virginia 20166. Comments must be received or postmarked no later than May 15, 2017.

Public Comment Policy: Before including your address, phone number, email address, or other personal identifying information in your comment, you should be aware that your entire comment, including your personal identifying information, may be made publicly available at any time. While you can ask us in your comments to withhold your personal identifying information from public review, we cannot guarantee that we will be able to do so.

Authority: This Notice of Availability to prepare a Draft SEIS is in compliance with NEPA, as amended (42 U.S.C. 4231 et seq.), and is published pursuant to 40 CFR 1506.6.

Dated: March 22, 2017.
Walter D. Cruickshank,
Acting Director, Bureau of Ocean Energy Management.

[FR Doc. 2017-06103 Filed 3-30-17; 8:45 am]

BILLING CODE 4310-MR-P